DEPARTMENT OF THE INTERIOR

National Park Service

[NPS-WASO-NRNHL-0911-8428; 2280-665]

Landmarks Committee of the National Park System Advisory Board Meeting

AGENCY: National Park Service.

ACTION: Notice of meeting.

SUMMARY: Notice is hereby given in accordance with the Federal Advisory Committee Act [5 U.S.C. Appendix (1988)], that a meeting of the Landmarks Committee of the National Park System Advisory Board will be held beginning at 1 p.m. on November 8, 2011, at the following location. The meeting will continue beginning at 9 a.m. on November 9 and 10, 2011.

DATES: November 8, 2011, at 1 p.m.; November 9-10, 2011, at 9 a.m.

Location: The Finn Forum, 2nd Floor, Ray Group International, 900 15th Street, NW., Washington, DC 20005.

FOR FURTHER INFORMATION CONTACT: Patricia Henry, National Historic Landmarks Program, National Park Service; 1849 C Street, NW., (2280); Washington, DC 20240; Telephone (202) 354-2216; E-mail: Patty_Henry@nps.gov.

SUPPLEMENTARY INFORMATION: The purpose of the meeting of the Landmarks Committee of the National Park System Advisory Board is to evaluate nominations of historic properties in order to advise the National Park System Advisory Board of the qualifications of each property being proposed for National Historic Landmark (NHL) designation, and to make recommendations regarding the possible designation of those properties as National Historic Landmarks to the National Park System Advisory Board at a subsequent meeting at a place and time to be determined. The Committee also makes recommendations to the National Park System Advisory Board regarding amendments to existing designations and proposals for withdrawal of designation. The members of the Landmarks Committee are:

Mr. Ronald James, Chair, Dr. James M. Allan, Dr. Cary Carson, Dr. Darlene Clark Hine, Mr. Luis Hoyos, AIA, Dr. Barbara J. Mills, Dr. William J. Murtagh, Dr. Franklin Odo, Dr. William D. Seale, Dr. Michael E. Stevens.

The meeting will be open to the public. Pursuant to 36 CFR part 65, any member of the public may file, for consideration by the Landmarks Committee of the National Park System Advisory Board, written comments concerning the National Historic Landmarks nominations, amendments to existing designations, or proposals for withdrawal of designation.

Comments should be submitted to J. Paul Loether, Chief, National Register of Historic Places and National Historic Landmarks Program, National Park Service; 1849 C Street, NW., (2280); Washington, DC 20240; E-mail: Paul_Loether@nps.gov.

Before including your address, phone number, e-mail address, or other personal identifying information in your comment, you should be aware that your entire comment—including your personal identifying information—may be made publicly available at any time. While you can ask us in your comment to withhold your personal identifying information from public review, we cannot guarantee that we will be able to do so.

In addition to the properties listed in the Federal Register notice published on September 8, 2011, the National Park System Advisory Board and its Landmarks Committee may also consider the following nominations:

Nominations

New York

• Admiral David G. Farragut Grave Site, Bronx, NY.

Puerto Rico

• Bacardi Distillery, Cataño, Puerto Rico.

September 13, 2011.
J. Paul Loether,
Chief, National Register of Historic Places and National Historic Landmarks Program, National Park Service, Washington, DC.

[FR Doc. 2011-24895 Filed 9-27-11; 8:45 am]

BILLING CODE 4312-51-P